DEPARTMENT OF COMMERCE

International Trade Administration

Timing of Assessment Instructions for Antidumping Duty Orders Involving Non-Market Economy Countries

AGENCY: Import Administration, International Trade Administration, Department of Commerce.

ACTION: Request for comments.

SUMMARY: The Department of Commerce (“Department”) is requesting comments on the appropriate timing for the issuance of assessment instructions for antidumping duties involving orders on non-market economy countries (“NMEs”) when a review has been requested of certain entities. This notice describes the two approaches we have followed, and requests comments on these approaches.

DUE DATE: Comments must be submitted by July 15, 2005.

FOR FURTHER INFORMATION CONTACT: Nazak Nikakhtar, Special Assistant to Senior Enforcement Coordinator/International Trade Analyst, or Maureen Flannery, Senior International Trade Analyst, Office of China/NME Enforcement, Import Administration, U.S. Department of Commerce, 14th Street and Constitution Avenue, NW, Washington DC, 20230, 202-482-9079 or 202-482-3020, respectively.

SUPPLEMENTARY INFORMATION:

Background

The United States applies a retrospective assessment system under which final liability for antidumping duties is determined after merchandise is imported. The amount of duties to be assessed is determined either through (1) a review of the order covering the period of review (“POR”) based on a request for review or, (2) if a review is not requested, at the cash deposit, or bond, rate applicable at the time the merchandise was entered during that period corresponding to the POR. Sections 736(a)(1) and 751(a)(2)(c) of the Tariff Act of 1930, as amended (“the Act”) provide for such assessments. Section 351.212 of the Department's regulations provides guidance regarding the assessment of duties:

(1) If the Secretary does not receive a timely request for an administrative review of an order (see paragraph (b)(1), (b)(2), or (b)(3) of § 351.213), the Secretary, without additional notice, will instruct the Customs Service to: (i) assess antidumping duties or countervailing duties, as the case may be, on the subject merchandise described in § 351.213(e) at rates equal to the cash deposit of, or bond for, estimated antidumping duties or countervailing duties required on that merchandise at the time of entry, or withdrawal from warehouse, for consumption; and (ii) to continue to collect the cash deposits previously ordered.

(2) If the Secretary receives a timely request for an administrative review of an order (see paragraph (b)(1), (b)(2), or (b)(3) of § 351.213), the Secretary will instruct the Customs Service to assess antidumping duties or countervailing duties, and to continue to collect cash deposits, on the merchandise not covered by the request in accordance with paragraph (c)(1) of this section.

(3) The automatic assessment provisions of paragraphs (c)(1) and (c)(2) of this section will not apply to subject merchandise that is the subject of a new shipper review (see § 351.214) or an expedited antidumping review (see § 351.215).¹

¹ For merchandise subject to a new shipper review, the Department will suspend liquidation of any unliquidated entries until the completion of the review. See 19 CFR 351.214(e).

See 19 CFR 351.212(c).

Where there has been no request for a review, the Department issues assessment instructions after the end of the anniversary month of the order for both market economy and NME antidumping duty orders. See 19 CFR 351.102(b) and 351.212(c)(1). If a review of certain entities has been requested, the Department, in market economy cases, sends out the assessment instructions for only those entities for which a review has not been requested shortly after the initiation notice is issued for the administrative review in accordance with 19 CFR 351.212(c)(2). In NME cases, the Department has followed two approaches for issuing assessment instructions for entries under the NME orders when a review has been requested of certain entities. One approach has been to issue assessment instructions at the completion of the review for all entries from entities for which a specific review had not been requested and which are subject to the NME-wide rate. The other approach has been to issue the assessment instructions at the beginning of the review, at the rate in effect on the date of entry, for all entries except those entries from the specific entities for which a review was requested and initiated.

Proposal

The Department is seeking comments on whether (1) the Department should issue assessment instructions after the initiation of an administrative review for entries from foreign entities subject to the NME-wide rate and for which the Department did not receive a specific request for review or (2) the Department should issue assessment instructions at the conclusion of an administrative review both for entries for which a specific request was made and for entries from foreign entities subject to the NME-wide rate and for which the Department did not receive a specific request for review.

Comments

Persons wishing to comment should file a signed original and six copies of each set of comments by the date specified above. The Department will consider all comments received by July 15, 2005. Consideration of comments received after July 15, 2005 cannot be assured. The Department will not accept comments accompanied by a request that a part or all of the material be treated confidentially because of its business proprietary nature or for any other reason. The Department will return such comments and materials to the persons submitting the comments and will not consider them in development of any changes to its practice. All comments responding to this notice will be a matter of public record and will be available for public inspection and copying at Import Administration's Central Records Unit, Room B-099, between the hours of 8:30 a.m. and 5 p.m. on business days. The Department requires that comments be submitted in written form. The Department recommends submission of comments in electronic form to accompany the required paper copies. Comments filed in electronic form should be submitted either by e-mail to the webmaster below or on CD-ROM as comments submitted on diskettes are likely to be damaged by postal radiation treatment.

Written comments (original and six copies) should be sent to Joseph A. Spetrini, Acting Assistant Secretary for Import Administration, U.S. Department of Commerce, Central Records Unit, Room 1870, 14th Street and Constitution Avenue, Washington, DC 20230. Comments received in electronic form will be made available to the public in Portable Document Format (PDF) on the Internet at the Import Administration Web site at the following address: http://ia.ita.doc.gov/. Any questions concerning file formatting, document conversion, access on the Internet, or other electronic filing issues should be addressed to Andrew Lee Beller, Import Administration Webmaster, at email address: webmaster-support@ita.doc.gov or by telephone at (202) 482-0866.

Dated: June 14, 2005.
Joseph A. Spetrini,
Acting Assistant Secretary for Import Administration.

[FR Doc. E5-3213 Filed 6-20-05; 8:45 am]

BILLING CODE: 3510-DS-S